ENVIRONMENTAL PROTECTION AGENCY

[OW-2002-0060; FRL-7463-8]

Agency Information Collection Activities; Submission of EPA ICR No. 0234.08 (OMB No. 2080-0021 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Performance Evaluation Studies of Water and Wastewater Laboratories (OMB Control No. 2080-0021, EPA ICR No. 0234.08) The ICR, which is abstracted below, describes the nature of the information collection and its estimated burden and cost.

DATES: Additional comments may be submitted on or before April 10, 2003.

ADDRESSES: Follow the detailed instructions in the SUPPLEMENTARY INFORMATION

FOR FURTHER INFORMATION CONTACT: Ed Glick, Standards and Risk Management Division, Office of Ground Water and Drinking (Mail Code 140), United States Environmental Protection Agency, USEPA Facilities, West Martin Luther King Drive, Cincinnati, OH 45268; telephone number: (513) 569-7939; fax number: (513) 569-7191; e-mail address: glick.ed@epa.gov.

SUPPLEMENTARY INFORMATION: EPA has submitted the following ICR to OMB for review and approval according to the procedures prescribed in 5 CFR 1320.12. On July 8, 2002 (67 FR 45112), EPA sought comments on this ICR pursuant to 5 CFR 1320.8(d). No comments were received.

EPA has established a public docket for this ICR under Docket ID No. OW-2002-0060, which is available for public viewing at the Water Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to OW-Docket@epa.gov, or by mail to: EPA Docket Center, Environmental Protection Agency, Mailcode: 4101T, 1200 Pennsylvania Avenue, NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Performance Evaluation Studies of Water and Wastewater (OMB Control No. 2080-0021, EPA ICR Number 0234.08). This is a request to renew an existing approved collection that is scheduled to expire on February 28, 2003. Under the OMB regulations, the Agency may continue to conduct or sponsor the collection of information while this submission is pending at OMB.

Abstract: Performance Evaluation (PE) studies provide an objective demonstration that participating laboratories are capable of producing valid data for monitored pollutants. Participation in the Water Pollution (WP) studies that relate to wastewater analyses and Water Supply (WS) studies that relate to drinking water analyses are only mandated by the USEPA for those laboratories that receive federal funds to perform these analyses. However, states that certify laboratories for drinking water and wastewater analyses also often require successful participation in these studies for certification. Participation in the Discharge Monitoring Report-Quality Assurance (DMR-QA) studies is mandatory for those designated wastewater dischargers who are conducting self-monitoring analyses required under a National Pollutant Discharge Elimination System (NPDES) permit. EPA initiated these studies and originally administered them as part of the Agency's mandate to assure the quality of environmental monitoring data. Subsequently, all of these studies have been privatized. Private sector companies manufacture and distribute samples to the participating laboratories who then will submit their analytical results to these PE vendors for evaluation. The PE vendors then send evaluations of the submitted data to the laboratory and any other designated certifying/accrediting authority.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and record keeping burden for this collection of information is estimated to average 9.7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Laboratories and PE Vendors.

Estimated Number of Respondents: 17,168.

Frequency of Response: Annually.

Estimated Total Annual Hour Burden: 167,348 hours.

Estimated Total Annual Cost: $8,252,000, which includes $0 annualized capital/startup costs and $2,921,000 annual O&M costs.

Changes in the Estimates: (1) Agency burden has been completely transferred to private sector. PE venders. (2) The PE Studies WSM and DMRQA TOX are no longer considered a part of this information collection, reducing the number of respondents and their corresponding burdens. (3) Participation in the DMR-QA PE study has decreased from an estimated average of 7000 to 6489 since the last renewal of this ICR, while the estimated average number of analytes measured in this study increased from 9 to 14. (4) Participation in the WP PE study has increased from an estimated average of 5800 to 6470, and the average number of analytes decreased from 27 to 25. (5) The average number of analytes per participant in the WS PE study increased from 30 to 33. (6) The average cost per analyte charged by the PE venders was updated since the previous renewal of this ICR.

Dated: February 26, 2003.
Oscar Morales,
Director, Collection Strategies Division.

[FR Doc. 03-5745 Filed 3-10-03; 8:45 am]

BILLING CODE 6560-50-P